NATIONAL SCIENCE FOUNDATION (NSF)

National Science Board Ad Hoc Committee on Nominations for the NSB Class of 2010-2016; Sunshine Act Meetings; Notice

The National Science Board's ad hoc Committee on Nominations for the NSB Class of 2010-2016, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

Date and Time: Tuesday, July 28, 2009 at 2 p.m.

Subject Matter: Nominations for the National Science Board Class of 2016.

Status: Closed.

This meeting will be held by teleconference originating at the National Science Board Office, National Science Foundation, 4201 Wilson Blvd., Arlington, VA 22230. Please refer to the National Science Board Web site (http://www.nsf.gov/nsb) for information or schedule updates, or contact: Kim Silverman, National Science Foundation, 4201 Wilson Blvd., Arlington, VA 22230. Telephone: (703) 292-7000.

Ann Ferrante,
Writer-Editor.

[FR Doc. E9-16862 Filed 7-13-09; 11:15 am]

BILLING CODE 7555-01-P